DEPARTMENT OF HOMELAND SECURITY

Domestic Nuclear Detection Office; Announcement of Requirements and Registration for the National Radiological and Nuclear Detection Challenge; Correction

AGENCY: Domestic Nuclear Detection Office, DHS.

ACTION: Notice; correction.

SUMMARY: DNDO published a notice in the Federal Register of May 8, 2013, to announce the National Radiological and Nuclear Detection Challenge (Rad/Nuc Challenge), a participation challenge being conducted under the America Competes Reauthorization Act, for state, local, and tribal law enforcement, other first responders, public safety officials, and Civil Support Team members. This event has been postponed requiring a change to the date and location information.

FOR FURTHER INFORMATION CONTACT: Timothy Smith, (202) 254-7297, Radnucchallenge@hq.dhs.gov. To register for and find additional information about the Rad/Nuc Challenge, visit http://www.radnucchallenge.org.

Correction

Correct FR Doc. 2013-10928 as follows:

1. In the Federal Register of May 8, 2013, in FR Doc. 2013-10928, on page 26795, in the second column, correct the DATES caption to read:

DATES: The Rad/Nuc Challenge will be held late in Fiscal Year 2014.

2. On page 26795, in the second column, correct the ADDRESSES caption to read:

ADDRESSES: The location of the Rad/Nuc Challenge is to be announced.

3. On page 26795, in the third column, correct the first sentence of the second full paragraph to read:

The event will be hosted at a location to be announced.

Authority: 15 U.S.C. 3719.

Dated: June 17, 2013.
Rafael Borras,
Under Secretary for Management.

[FR Doc. 2013-18216 Filed 7-29-13; 8:45 am]

BILLING CODE 4410-9D-P